DEPARTMENT OF DEFENSE

Department of the Army; Corps of Engineers

Cancellation of the Notice of Intent To Prepare a Draft Environmental Impact Statement for the Dade County Beach Erosion Control and Hurricane Protection Project, for a Test Beach Fill Using a Domestic Upland Sand Source Based on a Generic Sand Specification

AGENCY: Department of the Army, U.S. Army Corps of Engineers, DoD.

ACTION: Notice; cancellation.

SUMMARY: The Jacksonville District, U.S. Army Corps of Engineers hereby cancels its notice of intent to prepare a Draft Environmental Impact Statement (DEIS) for the Dade County Beach Erosion Control and Hurricane Protection Project, as published in 64 FR 24373, May 6, 1999.

The notice is cancelled because, after scoping for the proposed DEIS was completed, no new new issues were raised; no request was received for public meetings, and comments were received only from environmental and resource agencies.

An Environmental Assessment will be prepared and coordinated for the proposed action. This document is expected to be available in May 2002.

FOR FURTHER INFORMATION CONTACT: Questions can be forwarded to Mr. Mike Dupes, Environmental Branch, Planning Division, Jacksonville District, Corps of Engineers, Post Office Box 4970, Jacksonville, Florida 32232-0019, Phone: 904-232-1689.

Dated: May 1, 2002.
James C. Duck,
Chief, Planning Division.

[FR Doc. 02-12179 Filed 5-15-02; 8:45 am]

BILLING CODE 3710-AJ-M